DEPARTMENT OF TRANSPORTATION

Federal Motor Carrier Safety Administration

[Docket No. FMCSA-2015-0480]

Commercial Driver's License Standards: Application for Exemption Renewal; CRST The Transportation Solution (Formerly Known as CRST Expedited, Inc.)

AGENCY: Federal Motor Carrier Safety Administration (FMCSA), Department of Transportation (DOT).

ACTION: Notice of exemption renewal; request for comments.

SUMMARY: FMCSA announces its decision to provisionally renew the exemption currently held by CRST The Transportation Solution (CRST) (formerly known as CRST Expedited, Inc.) from the requirement that a commercial driver's license (CDL) holder with the proper CDL class and endorsements be seated in the front seat of the commercial motor vehicle (CMV) at all times while the commercial learner's permit (CLP) holder is engaged in behind-the-wheel training on public roads or highways. Under the terms and conditions of the exemption, a CLP holder who has passed the skills test but not yet received the CDL document may drive a CRST CMV accompanied by a CDL holder who is not necessarily in the passenger seat, provided the CLP driver possesses documentation of passing from the State that administered the skills test. The exemption renewal is for five years.

DATES: This renewed exemption is effective September 24, 2023, and expires on September 24, 2028. Comments must be received on or before September 6, 2023.

ADDRESSES: You may submit comments identified by Federal Docket Management System Number FMCSA-2015-0480 by any of the following methods:

• Federal eRulemaking Portal: www.regulations.gov. See the Public Participation and Request for Comments section below for further information.

• Mail: Dockets Operations, U.S. Department of Transportation, 1200 New Jersey Avenue SE, West Building, Ground Floor, Washington, DC 20590-0001.

• Hand Delivery or Courier: West Building, Ground Floor, 1200 New Jersey Avenue SE, Washington, DC 20590-0001 between 9 a.m. and 5 p.m. E.T., Monday through Friday, except Federal holidays.

• Fax: (202) 493-2251.

Each submission must include the Agency name and the docket number for this notice (FMCSA-2015-0480). Note that DOT posts all comments received without change to www.regulations.gov, including any personal information included in a comment. Please see the Privacy Act heading below.

Docket: For access to the docket to read background documents or comments, go to www.regulations.gov at any time or visit Room W12-140 on the ground level of the West Building, 1200 New Jersey Avenue SE, Washington, DC, 20590-0001 between 9 a.m. and 5 p.m., ET, Monday through Friday, except Federal holidays. To be sure someone is there to help you, please call (202) 366-9317 or (202) 366-9826 before visiting Dockets Operations.

Privacy Act: In accordance with 49 U.S.C. 31315(b)(6), DOT solicits comments from the public on the exemption renewal request. DOT posts these comments, without edit, including any personal information the commenter provides, to www.regulations.gov, as described in the system of records notice (DOT/ALL-14 FDMS), which can be reviewed at www.dot.gov/privacy.

FOR FURTHER INFORMATION CONTACT: Mrs. Pearlie Robinson, FMCSA Driver and Carrier Operations Division; Office of Carrier, Driver and Vehicle Safety Standards; Telephone: 202-366-4225; Email: pearlie.robinson@dot.gov. If you have questions on viewing or submitting material to the docket, contact Dockets Operations, (202) 366-9826.

SUPPLEMENTARY INFORMATION:

I. Public Participation and Request for Comments

FMCSA encourages you to participate by submitting comments and related materials.

Submitting Comments

If you submit a comment, please include the docket number for this notice (FMCSA-2015-0480), indicate the specific section of this document to which the comment applies and provide a reason for suggestions or recommendations. You may submit your comments and material online or by fax, mail, or hand delivery, but please use only one of these means. FMCSA recommends that you include your name and a mailing address, an email address, or a phone number in the body of your document so the Agency can contact you if it has questions regarding your submission.

To submit your comment online, go to www.regulations.gov and put the docket number FMCSA-2015-0480 in the “Search” box, and click “Search.” When the new screen appears, click on “Documents” button, then click the “Comment” button associated with the latest notice posted. Another screen will appear; insert the required information. Choose whether you are submitting your comment as an individual, an organization, or anonymous. Click “Submit Comment.”

If you submit your comments by mail or hand delivery, submit them in an unbound format, no larger than 8½ by 11 inches, suitable for copying and electronic filing. If you submit comments by mail and would like to know that they reached the facility, please enclose a stamped, self-addressed postcard or envelope. FMCSA will consider all comments and material received during the comment period.

II. Legal Basis

FMCSA has authority under 49 U.S.C. 31136(e) and 31315(b)(2) and 49 CFR 381.300(b) to renew an exemption from the Federal Motor Carrier Safety Regulations for a 5-year period if it finds that “such exemption would likely achieve a level of safety that is equivalent to, or greater than, the level that would be achieved absent such exemption.” CRST has requested a five-year extension of the current exemption in Docket No. FMCSA-2015-0480.

III. Background

Current Regulation(s) Requirements

FMCSA's CDL regulations in 49 CFR 383.25 establish minimum requirements for the CLP to be considered a valid CDL during behind-the-wheel training of a CLP holder on public roads or highways. Section 383.25(a)(1) requires a CDL holder with the proper CDL class and endorsements necessary to operate the CMV to accompany a CLP holder and be physically present in the front seat of the CMV next to the CLP holder at all times or, in a commercial passenger vehicle, directly behind or in the front row behind the driver, and must have the CLP holder under observation and direct supervision.

Application for Renewal of Exemption

Background

On September 23, 2016, FMCSA granted CRST a five-year exemption from 49 CFR 383.25(a)(1) because CLP holders who have passed the CDL skills test are professionally qualified and eligible to obtain a CDL, which indicates that CRST would likely achieve a level of safety equivalent to or greater than the level of safety obtained by complying with the regulation (81 FR 65696). On October 19, 2018, CRST requested renewal of its original exemption. FMCSA granted the request for renewal for an additional five-year period. The renewed exemption expires on September 24, 2023.

CRST has requested an additional five-year renewal of the exemption. CRST believes that FMCSA should renew the exemption because it results in safer drivers. CRST noted that:

As it respects CRST's CLP holders, these drivers have already successfully passed all required CDL skills testing, and related prerequisites, required to lawfully take receipt of the CDL. What remains for CRST CLP holders is to travel to the DMV [Department of Motor Vehicles] in their respective home state to obtain physical receipt of their CDL. The only difference between a CRST CLP holder who has passed their skills testing via a registered ELDT training provider with the documentation of successful skills testing results in the Commercial Skills Test Information Management System (CSTIMS), and other newly credentialed CDL drivers is the physical possession of the CDL document.

CRST estimates that approximately 1,000 new drivers per year will operate a CMV under the exemption, if the renewal is granted. It states that allowing the CLP drivers to operate under the exemption would not result in a degradation of safety because “there is no material difference between the skill of a new driver that has passed the required skills testing as part of their entry-level driver training and a new driver that has just received their DMV-issued CDL document.” CRST assesses that the exemption will improve safety because new CDL holders are allowed to drive unsupervised immediately after receiving their documentation whereas CLP drivers operating under this exemption will be accompanied by an experienced CDL holder providing some guidance.

A copy of CRST's request has been placed in the docket to this notice.

IV. Equivalent Level of Safety

FMCSA determined in 2016 and again in 2018 that CRST drivers would likely achieve a level of safety equivalent to, or greater than, the level of safety achieved without the exemption. FMCSA noted in its October 19, 2018, notice that because these drivers have already met all the requirements for a CDL, but have yet to pick up the CDL document from their State of domicile, their safety performance is expected to be the same as any other newly credentialed CDL holder. Additionally, having a CDL driver accompany the CLP driver who has successfully passed all required CDL skills testing and prerequisites, provides some additional supervision that is otherwise not required for newly credentialed CDL drivers in physical possession of the CDL document.

FMCSA is unaware of any evidence of a degradation of safety attributable to the current exemption for CRST drivers. There is no indication of an adverse impact on safety while CRST drivers have been operating under the terms and conditions specified in the initial exemption or 2018 exemption renewal.

FMCSA therefore concludes that provisionally renewing the exemption granted on October 19, 2018, for another five years, under the terms and conditions listed below, will likely achieve a level of safety that is equivalent to, or greater than, the level of safety achieved without the exemption.

V. Exemption Decision

A. Grant of Exemption

FMCSA provisionally renews the exemption for a period of five years subject to the terms and conditions of this decision and the absence of adverse public comments that would cause the Agency to terminate the exemption. The exemption from the requirements of 49 CFR 383.25(a)(1), is otherwise effective September 24, 2023, through September 23, 2028, 11:59 p.m. local time, unless renewed or revoked.

B. Applicability of Exemption

The exemption relieves CRST from the requirement that a driver accompanying a CLP holder be physically present in the front seat of a CMV on the condition that the CLP holder (i) has successfully passed a CDL skills test administered by the testing State and (ii) possesses supporting documentation from that State.

C. Terms and Conditions

When operating under this exemption, CRST and its drivers are subject to the following terms and conditions:

(1) CRST and its drivers must comply with all other applicable Federal Motor Carrier Safety Regulations (49 CFR parts 350-399);

(2) The drivers must be in possession of a valid State driver's license, a CLP with the required endorsements, and documentation from the testing State that they have passed the CDL skills test;

(3) The drivers must not be subject to any out-of-service order or suspension of driving privileges; and

(4) The drivers must be able to provide this exemption document to enforcement officials.

D. Preemption

In accordance with 49 U.S.C. 31315(d), as implemented by 49 CFR 381.600, during the period this exemption is in effect, no State shall enforce any law or regulation that conflicts with or is inconsistent with this exemption with respect to a firm or person operating under the exemption. States may, but are not required to, adopt the same exemption with respect to operations in intrastate commerce.

E. Notification to FMCSA

CRST must notify FMCSA within 5 business days of any accident (as defined in 49 CFR 390.5) involving any of its CMVs operating under the terms of this exemption. The notification must include the following information:

(a) Name of the exemption: “CRST”.

(b) Date of the accident.

(c) City or town, and State, in which the accident occurred, or closest to the accident scene.

(d) Driver's name and license number.

(e) Vehicle number and State license number.

(f) Number of individuals suffering physical injury.

(g) Number of fatalities.

(h) The police-reported cause of the accident.

(i) Whether the driver was cited for violation of any traffic laws, motor carrier safety regulations.

(j) The driver's total driving time and total on-duty time prior to the accident.

Reports filed under this provision shall be emailed to MCPSD@DOT.GOV.

F. Termination

FMCSA does not believe the drivers covered by this exemption will experience any deterioration of their safety record. The exemption will be rescinded if: (1) CRST and drivers operating under the exemption fail to comply with the terms and conditions of the exemption; (2) the exemption has resulted in a lower level of safety than was maintained before it was granted; or (3) continuation of the exemption would not be consistent with the goals and objects of 49 U.S.C. 31136(e) and 31315(b). FMCSA further reserves the right to terminate this exemption in the event it is no longer necessary due to revised regulatory requirements.

VI. Request for Comments

FMCSA requests public comment from all interested persons on CRST's application for a renewal of the exemption. The Agency will evaluate any adverse evidence submitted and, if safety is being compromised or if continuation of the exemption would not be consistent with the goals and objectives of 49 U.S.C. 31136(e) and 31315(b), FMCSA will take immediate steps to revoke the exemption.

Robin Hutcheson,
Administrator.

[FR Doc. 2023-16850 Filed 8-4-23; 8:45 am]

BILLING CODE 4910-EX-P